DEPARTMENT OF COMMERCE

National Institute of Standards and Technology

[Docket No. 060404094-6094-01]

Notice of Termination of the National Institute of Standards and Technology's Providers of Proficiency Testing Program

AGENCY: National Institute of Standards and Technology, Commerce.

ACTION: Notice.

SUMMARY: In accordance with the National Voluntary Laboratory Accreditation Program (NVLAP) regulations, the National Institute of Standards and Technology (NIST) is announcing that the NVLAP Chemical Calibration, Providers of Proficiency Testing Program (PPT) will be terminated, effective at the close of business on September 30, 2006. For further information, interested parties may contact Mr. C. Douglas Faison at the address below.

FOR FURTHER INFORMATION CONTACT: Questions should be directed to C. Douglas Faison at (301) 975-5304; via e-mail at faisond@nist.gov or by mail at the Standards Services Division, 100 Bureau Drive, Stop 2140, Gaithersburg, MD 20899-2140.

SUPPLEMENTARY INFORMATION: In accordance with the regulations, Title 15 CFR 285.5, NIST is announcing that, effective COB September 30, 2006, the Chemical Calibration, Programwill be terminated.

In 1999, the NVLAP PPT program was created to assume the role and responsibilities formerly provided by the United States Environmental Protection Agency's (USEPA) Water Proficiency Evaluation Program. The purpose of the NVLAP PPT program is to review and accredit laboratories for their competence to characterize samples and to conduct proficiency test programs to support USEPA requirements for environmental laboratories. Accreditation is offered in those areas necessary to support environmental laboratory testing of drinking water and waste water. The PPT program is a competence based program, meaning Proficiency Testing Providers are periodically assessed and found competent to prepare and analyze samples and to conduct studies. Proficiency Testing Providers are re-evaluated every two years requiring a complete review of their competence and their performance on studies conducted. Proficiency Testing Providers are also required to participate in proficiency testing activities administered by the NIST Analytical Chemistry Division (ACD).

In 2003, the National Environmental Accreditation Conference (NELAC) published the NELAC Standard, which modified and made more stringent the accreditation requirements for Proficiency Testing Providers. The NELAC standard requires that Proficiency Testing Providers be accredited by a Proficiency Testing Oversight Body (PTOB)/Proficiency Test Provider Accreditor (PTPA). Chapter 2 of the NELAC Standard sets out the requirements for the operation of a PTOB/PTPA. Specifically, clauses D.4 and D.5 of Chapter 2, Appendix D, require that the PTOB/PTPA provide ongoing oversight of Proficiency Testing Providers and the PTOB/PTPA develop and maintain a comprehensive database for the purpose of statistical monitoring of Proficiency Testing Providers' study data.

The NVLAP PPT program does not meet the requirements to be a PTOB/PTPA because it does not include ongoing oversight and NVLAP does not have the resources to develop and maintain the required database. NVLAP, therefore, did not apply to serve as a PTOB/PTPA and does not wish to be recognized by NELAC as having a program that meets the requirement for service as a PTOB/PTPA.

NELAC has approved at least one PTOB/PTPA that will satisfy the original need and that meets current requirements. NVLAP has been informed that this PTOB/PTPA's program will be operational by June 30, 2006. NVLAP will maintain the accreditations of the current NVLAP-accredited Proficiency Testing Providers until September 30, 2006, to ensure continuity in coverage. After that date, Proficiency Testing Providers will be able to obtain accreditation from a NELAC-approved PTOB/PTPA.

Dated: May 10, 2006.
Hratch G. Semerjian,
Deputy Director.

[FR Doc. E6-7676 Filed 5-18-06; 8:45 am]

BILLING CODE 3510-13-P